DEPARTMENT OF THE INTERIOR

Bureau of Land Management

[MT-060-01-1020-PG]

Notice of Public Meeting; Central Montana Resource Advisory Council

AGENCY: Bureau of Land Management, Interior.

ACTION: Notice of public meeting.

SUMMARY: In accordance with the Federal Land Policy and Management Act and the Federal Advisory Committee Act of 1972, the U.S. Department of the Interior, Bureau of Land Management (BLM) Central Montana Resource Advisory Council (RAC) will meet as indicated below.

DATES: The meeting will be held April 12 & 13, 2007, at the Bureau of Land Management's Lewistown Field Office, 920 NE. Main Street, in Lewistown, Montana.

The April 12 session will begin at 10 a.m. with a 30-minute public comment period. This meeting is scheduled to adjourn at 6:30 p.m.

The April 13 meeting will begin at 8 a.m. with a 30-minute public comment period. This meeting is scheduled to adjourn at 3 p.m.

SUPPLEMENTARY INFORMATION: This 15-member council advises the Secretary of the Interior on a variety of management issues associated with public land management in Montana. At this meeting the council will discuss/act upon:

The minutes of their preceding meeting

The Missouri River Breaks National Monument RMP

Livestock grazing regulations

The Bowdoin Draft Environmental Assessment

The Judith Moccasin Travel Plan Update

The development of a subgroup for the Judith Moccasin Travel Plan

The Judith Moccasin Forest Management treatments

Watershed plans in the Lewistown Field Office administrative area

Field managers' updates

The annual work plan for the RAC

The fee proposal for the UMRBNM Interpretive Center

A Forest Service fee proposal

Riparian/cottonwood projects

Weed management; and

Administrative details

All RAC meetings are open to the public. The public may present written comments to the RAC. Each formal RAC meeting will also have time allocated for hearing public comments. Depending on the number of persons wishing to comment and time available, the time for individual oral comments may be limited.

FOR FURTHER INFORMATION CONTACT: June Bailey, Lewistown Field Manager, Lewistown Field Office, P.O. Box 1160, Lewistown, MT 59457, 406/538-1900.

Dated: March 14, 2007.
June Bailey,
Lewistown Field Manager.

[FR Doc. E7-5007 Filed 3-19-07; 8:45 am]

BILLING CODE 4310-$$-P